DEPARTMENT OF AGRICULTURE

Forest Service

Oregon Coast Provincial Advisory Committee

AGENCY: Forest Service, USDA.

ACTION: Notice of meeting.

SUMMARY: The Oregon Coast Province Advisory Committee will meet in Corvallis, OR, April 15, 2004. The theme of the meeting is Introduction/Overview/Business Planning. The agenda includes: Payments to Counties Update, Socio-Economic Subcommittee Update, Coat Range Fire History, BLM Settlement Agreement Update, Pre-Monitoring Trip Information, Public Comment and Round Robin.

DATES: The meeting will be held April 15, 2004, beginning at 9 a.m.

ADDRESSES: The meeting will be held at the Siuslaw National Forest Supervisor's Office, 4077 SW. Research Way, Corvallis, Oregon.

FOR FURTHER INFORMATION CONTACT: Joni Quarnstrom, Public Affairs Specialist, Siuslaw National Forest, (541) 750-7075, or write to Siuslaw National Forest Supervisor, P.O. Box 1148, Corvallis, OR 97339.

SUPPLEMENTARY INFORMATION: The meeting is open to the public. Council Discussion is limited to Forest Service/BLM staff and Council Members. Lunch will be on your own. A public input session will be at 2:45 p.m. for fifteen minutes. The meeting is expected to adjourn around 3:30 p.m.

Dated: March 26, 2004.
Jane L. Cottrell,
Acting Forest Supervisor.

[FR Doc. 04-7435 Filed 4-1-04; 8:45 am]

BILLING CODE 3410-11-M